FEDERAL ELECTION COMMISSION

Sunshine Act Meetings

AGENCY: Federal Election Commission.

DATE & TIME: Thursday, May 6, 2014 at 10:00 a.m.

PLACE: 999 E Street NW., Washington, DC (Ninth Floor).

Status: This Meeting Will Be Open To The Public.

Items To Be Discussed: Draft Advisory Opinion 2014-02: Make Your Laws PAC, Inc.

Individuals who plan to attend and require special assistance, such as sign language interpretation or other reasonable accommodations, should contact Shawn Woodhead Werth, Secretary and Clerk, at (202) 694-1040, at least 72 hours prior to the meeting date.

Person to Contact for Information: Judith Ingram, Press Officer, Telephone: (202) 694-1220.

Shelley E. Garr,
Acting Secretary and Clerk of the Commission.

[FR Doc. 2014-10374 Filed 5-1-14; 4:15 pm]

BILLING CODE 6715-01-P